DEPARTMENT OF COMMERCE

Patent and Trademark Office

Patent and Trademark Financial Transactions

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before August 9, 2011.

ADDRESSES: You may submit comments by any of the following methods:

• E-mail: InformationCollection@uspto.gov. Include “0651-0043 comment” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to Matthew Lee, Office of Finance, United States Patent and Trademark Office, P.O. Box 1450, Alexandria, VA 22313-1450; by telephone at 571-272-6343; or by e-mail to Matthew.Lee@uspto.gov. Additional information about this collection is also available at http://www.reginfo.gov under “Information Collection Review.”

SUPPLEMENTARY INFORMATION:

I. Abstract

Under 35 U.S.C. 41 and 15 U.S.C. 1113, the United States Patent and Trademark Office (USPTO) charges fees for processing and other services related to patents, trademarks, and information products. Customers may submit payments to the USPTO by several methods, including credit card, deposit account, electronic funds transfer (EFT), and paper check transactions. The provisions of 35 U.S.C. 41 and 15 U.S.C. 1113 are implemented in 37 CFR 1.16-1.28, 2.6-2.7, and 2.206-2.209.

This information collection includes the Credit Card Payment Form (PTO-2038), which provides the public with a convenient way to submit a credit card payment for fees related to a patent, trademark, or information product. Customers may also submit credit card payments via the Electronic Credit Card Payment Form (PTO-2231) when using online systems through the USPTO Web site for paying fees related to patents, trademarks, or information products. The USPTO will not include credit card information submitted using the provided credit card payment forms among the patent or trademark records open to public inspection.

Customers may establish a deposit account for making fee payments by completing a Deposit Account Application Form (PTO-2232) and sending the required information, initial deposit, and service fee to the USPTO. Deposit accounts eliminate the need to submit a check, credit card information, or other form of payment for each transaction with the USPTO. Additionally, in the event that a fee amount due is miscalculated, customers may authorize the USPTO to charge any remaining balance to the deposit account and therefore avoid the potential consequences of underpayment. As customers use their deposit accounts to make payments, they may deposit funds to replenish their accounts by mailing a check to the USPTO or making a deposit online via EFT using the Electronic Deposit Account Replenishment Form (PTO-2233) available at the USPTO Web site. Replenishments may not be made by credit card. Customers may close their deposit accounts by submitting a written request or by using the Deposit Account Closure Request Form (PTO-2234).

In addition to credit cards and deposit accounts, customers may also use EFT to make online fee payments to the USPTO. Customers must first establish a user profile with their banking information by submitting the EFT User Profile Form (PTO-2236) through the USPTO Web site. Once their profile is created, customers may use their User ID and password to perform EFT transactions.

Under 37 CFR 1.26 and 2.209, the USPTO may refund fees paid by mistake or in excess of the required amount. In general, refunds of amounts larger than $25 are returned to the customer automatically using the same method as the original payment. For refund amounts of $25 or less, customers must submit a written request to the Refund Branch of the USPTO Office of Finance.

In order to access and manage their financial activity records online, customers may create a Financial Profile through the USPTO Web site. Customers create a profile by registering a username and password, providing contact information, and specifying the types of notifications and alerts they would like to receive. After establishing a Financial Profile, customers may then add the relevant account information to the profile in order to track their credit card, deposit account, and EFT transactions with the USPTO.

II. Method of Collection

By mail, facsimile, hand delivery, or electronically to the USPTO.

III. Data

OMB Number: 0651-0043.

Form Number(s): PTO-2038, PTO-2231, PTO-2232, PTO-2233, PTO-2234, PTO-2236.

Type of Review: Revision of a currently approved collection.

Affected Public: Individuals or households; businesses or other for-profits; and not-for-profit institutions.

Estimated Number of Respondents: 1,849,771 responses per year. The USPTO estimates that approximately 20% of these responses will be from small entities.

Estimated Time per Response: The USPTO estimates that it will take the public approximately two to six minutes (0.03 to 0.10 hours) to gather the necessary information, prepare the appropriate form or document, and submit the items in this collection to the USPTO.

Estimated Total Annual Respondent Burden Hours: 55,901 hours.

Estimated Total Annual Respondent Cost Burden: $2,962,753. The USPTO expects that 75% of the submissions for this information collection will be prepared by fee administrators/coordinators and that 25% of the submissions will be prepared by paraprofessionals. Using those proportions and the estimated rates of $30 per hour for fee administrators/coordinators and $122 per hour for paraprofessionals, the USPTO estimates that the average rate for all respondents will be approximately $53 per hour. Using this estimated rate of $53 per hour, the USPTO estimates that the respondent cost burden for submitting the information in this collection will be approximately $2,962,753 per year.

Item | Estimated time for response | Estimated annual responses | Estimated annual burden hours
Credit Card Payment Form (PTO-2038) | 2 minutes | 151,144 | 4,534
Electronic Credit Card Payment Form (PTO-2231) | 2 minutes | 1,622,708 | 48,681
Deposit Account Application Form (PTO-2232) | 2 minutes | 264 | 8
Deposit Account Replenishment | 2 minutes | 31,281 | 938
Electronic Deposit Account Replenishment Form (PTO-2233) | 2 minutes | 33,250 | 998
Deposit Account Closure Request Form (PTO-2234) | 4 minutes | 207 | 14
EFT User Profile Form (PTO-2236) | 2 minutes | 1,489 | 45
Refund Request | 4 minutes | 8,660 | 606
Financial Profiles | 6 minutes | 768 | 77
Totals |  | 1,849,771 | 55,901

Estimated Total Annual Non-hour Respondent Cost Burden: $141,971. There are no capital start-up, maintenance, or recordkeeping costs associated with this information collection. However, this collection does have annual (non-hour) cost burden in the form of service fees associated with deposit accounts and returned payments as well as postage costs.

There are service fees for setting up a deposit account at the USPTO, for not maintaining the minimum balance required for the deposit account, and for returned payments. The service charge to establish a deposit account is $10, and the USPTO estimates that it processes 264 Deposit Account Application Forms annually, for a total of $2,640 per year. There is also a $25 service charge for deposit accounts that are below the minimum balance ($1,000 minimum balance for an unrestricted deposit account or $300 minimum balance for a restricted deposit account) at the end of the month. The USPTO estimates that it assesses 4,273 of these low balance charges annually, for a total of $106,825 per year. There is a $50 service charge for processing a payment refused (including a check returned “unpaid”) or charged back by a financial institution. The USPTO estimates that it assesses 228 of these returned payment charges annually, for a total of $11,400 per year. The total estimated service fees for this collection are $120,865 per year.

Customers may incur postage costs when submitting the Credit Card Payment Form and other paper forms or requests to the USPTO by mail. Customers generally send the Credit Card Payment Form to the USPTO along with other documents related to the fee or service being paid for by credit card, but some customers may submit just the Credit Card Payment Form without additional supporting documents. The USPTO estimates that roughly 5 percent of the 151,144 paper Credit Card Payment Forms submitted annually may be mailed in by themselves, or approximately 7,557 per year. The USPTO estimates that it will receive an additional 40,412 submissions per year that may be mailed, including Deposit Account Application Forms, Deposit Account Replenishments, Deposit Account Closure Requests, and Refund Requests, for a total of 47,969 mailed submissions per year. The USPTO estimates that the first-class postage cost for a mailed submission will be 44 cents, for a total postage cost of approximately $21,106 per year.

The total (non-hour) respondent cost burden for this collection in the form of service fees and postage costs is estimated to be $141,971 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: June 7, 2011.
Susan K. Fawcett,
Records Officer, USPTO, Office of the Chief Information Officer.

[FR Doc. 2011-14387 Filed 6-9-11; 8:45 am]

BILLING CODE 3510-16-P